DEPARTMENT OF TRANSPORTATION

Federal Aviation Administration

14 CFR Part 39

[Docket No. 99-NE-16-AD; Amendment 39-12486; AD 2001-22-07]

RIN 2120-AA64

Airworthiness Directives; Honeywell International, Inc. LTP 101 Series Turboprop and LTS101 Series Turboshaft Engines

AGENCY: Federal Aviation Administration, DOT.

ACTION: Final rule.

SUMMARY: This amendment adopts a new airworthiness directive (AD), that is applicable to certain Honeywell International, Inc. (formerly AlliedSignal, Inc. and Textron Lycoming) LTP 101 series turboprop and LTS101 series turboshaft engines. This amendment requires a new life limitation and removal of rigid tube fuel manifold assemblies and replacement with serviceable assemblies. This amendment is prompted by reports of cracking and fuel leakage of rigid tube fuel manifolds. The actions specified by this AD are intended to prevent engine fuel leakage due to low-cycle fatigue (LCF) cracking of the rigid tube fuel manifold, which could result in an in-flight fire.

DATES: Effective date November 30, 2001.

ADDRESSES: The information in this AD may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Robert Baitoo, Aerospace Engineer, Los Angeles Aircraft Certification Office, FAA, Transport Airplane Directorate, 3960 Paramount Blvd., Lakewood, CA 90712-4137; telephone (562) 627-5245; fax (562) 627-5210.

SUPPLEMENTARY INFORMATION: A proposal to amend part 39 of the Federal Aviation Regulations (14 CFR part 39) to include an AD that is applicable to certain Honeywell International, Inc. (formerly AlliedSignal, Inc. and Textron Lycoming) LTP 101 series turboprop and LTS101 series turboshaft engines was published in the Federal Register on March 12, 2001 (66 FR 14346). That action proposed to require a new life limitation and removal of rigid tube fuel manifold assemblies and replacement with serviceable assemblies.

Comments

Interested persons have been afforded an opportunity to participate in the making of this amendment. No comments were received on the proposal or the FAA's determination of the cost to the public. The FAA has determined that air safety and the public interest require the adoption of the rule as proposed.

Economic Analysis

There are approximately 1,600 engines of the affected design in the worldwide fleet. The FAA estimates that 670 engines installed on aircraft of U.S. registry would be affected by this proposed AD, that it would take approximately 2 work hours per engine to accomplish the required actions, and that the average labor rate is $60 per work hour. Required parts would cost approximately $6,000 per engine. Based on these figures, the total cost impact of the proposed AD on U.S. operators is estimated to be $4,100,400.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-22-07 Honeywell International, Inc.: Amendment 39-12486. Docket 99-NE-16-AD.

Applicability: This airworthiness directive (AD) is applicable to Honeywell International, Inc. (formerly AlliedSignal Inc. and Textron Lycoming) LTP 101 series turboprop and LTS101 series turboshaft engines with the following part numbers (P/N's) rigid tube fuel manifolds installed:

Table 1.—P/N's of Affected Rigid Tube Fuel Manifolds
4-301-042-02 | 4-301-042-06 | 4-301-236-03 | 4-301-286-02
4-301-042-04 | 4-301-236-01 | 4-301-236-04 | 4-301-376-01
4-301-042-05 | 4-301-236-02 | 4-301-286-01 |

These engines are installed on, but not limited to Aerospatiale AS350, Eurocopter MBB-BK117 and HH-65A, Bell 222, Page Thrush, Air Tractor AT-302, Piaggio P.166-DL3, Riley International R421, and Pacific Aero 08-600 aircraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required as specified below, unless already done.

To prevent engine fuel leakage due to low-cycle fatigue (LCF) cracking of the rigid tube fuel manifold, which could result in an in-flight fire, do the following:

(a) Replace fuel manifolds that have accumulated the following gas generator rotor (Ng) cycles-since-new (CSN) on the effective date of this AD or Ng cycles-in-service (CIS) on the effective date of this AD since all tubes were replaced:

Table 2.—Fuel Tube Replacement Schedule
Ng CSN, or Ng CIS since total tube replacement | Replacement schedule
(1) 2,750 or less | Before accumulating 3,000 total Ng cycles.
(2) More than 2,750 | Within 250 CIS after the effective date of this AD.
(3) Unknown | (i) Within 2,000 CIS after the effective date of this AD; or (ii) At the next engine removal; or (iii) At the removal of the fuel manifold for cause, whichever is first.

New Life Limitation

(b) Do not install fuel manifolds with P/N's that are listed in Table 1 of this AD after the effective date of this AD if they meet ANY of the following conditions:

(1) The manifold has accumulated 3,000 or more total Ng cycles; or

(2) The manifold has had partial tube replacements; or

(3) The manifold has an unknown number of Ng cycles.

Alternative Methods of Compliance

(c) An alternative method of compliance or adjustment of the compliance time that provides an acceptable level of safety may be used if approved by the Manager, Los Angeles Aircraft Certification Office (LAACO). Operators must submit their request through an appropriate FAA Principal Maintenance Inspector, who may add comments and then send it to the Manager, LAACO.

Note 2: Information concerning the existence of approved alternative methods of compliance with this airworthiness directive, if any, may be obtained from the LAACO.

Special Flight Permits

(d) Special flight permits may be issued in accordance §§ 21.197 and 21.199 of the Federal Aviation Regulations (14 CFR 21.197 and 21.199) to operate the aircraft to a location where the requirements of this AD can be accomplished.

Effective Date

(e) This amendment becomes effective on November 30, 2001.

Issued in Burlington, Massachusetts, on October 19, 2001.
Jay J. Pardee,
Manager, Engine and Propeller Directorate, Aircraft Certification Service.

[FR Doc. 01-26967 Filed 10-25-01; 8:45 am]

BILLING CODE 4910-13-U